DEPARTMENT OF COMMERCE

International Trade Administration

A-570-504

Petroleum Wax Candles from the People's Republic of China: Rescission, in Part, of Antidumping Duty Administrative Review

Agency: Import Administration, International Trade Administration, U.S. Department of Commerce.

SUMMARY: The Department of Commerce (“the Department”) is rescinding its administrative review of one company, Shangyu City Garden Candle Factory (“Garden Candle”), under the antidumping duty order on Petroleum Wax Candles from the People's Republic of China for the period August 1, 2003, through July 31, 2004. This rescission, in part, is based on the withdrawal for a request for review by Garden Candle. The Department is not rescinding its review of Shanghai R&R Import/Export Co., Ltd (“Shanghai R&R”).

EFFECTIVE DATE: March 30, 2005.

FOR FURTHER INFORMATION CONTACT: Nicole Bankhead or Alex Villanueva at (202) 482-9068 and (202) 482-3208, respectively, AD/CVD Operations, Office 9, Import Administration, International Trade Administration, U.S. Department of Commerce, 14th Street and Constitution Avenue, NW, Washington, DC 20230.

SUPPLEMENTARY INFORMATION:

Background

The Department published in the Federal Register an antidumping duty order on petroleum wax candles from the People's Republic of China on August 28, 1986 (51 FR 30686). Pursuant to its Notice of Opportunity to Request an Administrative Review, 69 FR 46496 (August 3, 2004), and in accordance with section 751(a)(1) of the Tariff Act of 1930, as amended, and section 351.213(b) of the Department's regulations, the Department received timely requests for review from two companies: Garden Candle and Shanghai R&R. No other interested party requested a review.

On September 22, 2004, the Department published its Notice of Initiation of Antidumping and Countervailing Duty Administrative Reviews, Requests for Revocation in Part, 69 FR 56745 (September 22, 2004), initiating on both companies for which an administrative review was requested.

Rescission, in Part, of Administrative Review

Pursuant to section 351.213(d)(1) of the Department's regulations, the Department may rescind an administrative review, “if a party that requested the review withdraws the request within 90 days of the date of publication of notice of initiation of the requested review.” The Department may also extend this time limit if it decides that it is reasonable to do so. Id.

While Garden Candle's withdrawal of its own request for review was not timely, according to section 351.213(d)(1) of the Department's regulations, the Department may extend this time limit if it decides that it is reasonable to do so. In this case, the Department has determined that rescinding the review of Garden Candle is appropriate. Continuing this review would only require Garden Candle and the Department to expend time and resources on a review in which the party that requested the review is no longer interested. The Department has only released one supplemental questionnaire with respect to Garden Candle and has not yet conducted a verification. Therefore, the Department does not believe the administrative review has proceeded to a point at which it would be “unreasonable” to rescind the review. The Department has therefore determined that it is reasonable to extend the 90-day time limit for Garden Candle to request its withdrawal from the administrative review, and is rescinding its antidumping administrative review with respect to Garden Candle in accordance with section 351.213(d)(1) of the Department's regulations.

The Department will issue appropriate assessment instructions directly to U.S. Customs and Border Protection (“CBP”) within 15 days of the publication of this notice. The Department will direct CBP to assess antidumping duties for this company at the cash deposit rate in effect on the date of entry for entries during the period August 1, 2003, through July 31, 2004.

Notification to Parties

This notice serves as a reminder to importers of their responsibility under section 351.402(f) of the Department's regulations to file a certificate regarding the reimbursement of antidumping duties prior to liquidation of the relevant entries during this period of time. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return or destruction of APO materials or conversion to judicial protective order is hereby requested. Failure to comply with the regulations and terms of an APO is a sanctionable violation.

This notice is issued and published in accordance with section 351.213(d)(4) of the Department's regulations and sections 751(a)(2)(C) and 777(i)(1) of the Tariff Act of 1930, as amended.

Dated: March 16, 2005.
Barbara E. Tillman,
Acting Deputy Assistant Secretary for Import Administration.

[FR Doc. E5-1400 Filed 3-29-05; 8:45 am]

BILLING CODE 3510-DS-S